DEPARTMENT OF ENERGY

Federal Energy Regulatory Commission

[Docket No. RP03-524-000]

Transwestern Pipeline Company; Notice of Tariff Filing

June 18, 2003.

Take notice that on June 13, 2003, Transwestern Pipeline Company (Transwestern) tendered for filing as part of its FERC Gas Tariff, Second Revised Volume No. 1, to become effective June 1, 2003:

Fourteenth Revised Sheet No. 5B.02

Twelfth Revised Sheet No. 5B.03

Transwestern states that its Stipulation and Agreement filed on May 2, 1995, in Docket Nos. RP95-271, et al., as amended by Transwestern's Stipulation and Agreement filed on May 21, 1996, provided for Settlement Base Rates (“SBRs”) for the Current Firm Shippers listed in the Global Settlement and any shippers receiving permanently released capacity from those Current Firm Shippers. Transwestern states that the purpose of this filing, effective June 1, 2003, is to reflect the permanent release of part of Current Firm Shipper El Paso Merchant Energy's capacity to Sacramento Municipal Utility District (SMUD). Transwestern states that it is adding SMUD to the SBR and TCR II rate sheets. Transwestern asserts that in addition, Conoco Inc. is being eliminated from the SBRs tariff sheet to reflect the termination of Conoco Inc.'s service agreement to which the SBRs had applied.

Any person desiring to be heard or to protest said filing should file a motion to intervene or a protest with the Federal Energy Regulatory Commission, 888 First Street, NE., Washington, DC 20426, in accordance with Sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 25, 2003.

Magalie R. Salas,
Secretary.

[FR Doc. 03-15917 Filed 6-23-03; 8:45 am]

BILLING CODE 6717-01-P